DEPARTMENT OF THE INTERIOR

Bureau of Land Management

[OR-035-00-1050-00; HAG 04-0083]

Notice of Proposed Supplementary Rules on Public Land in Oregon

AGENCY: Bureau of Land Management, Interior.

ACTION: Proposed supplementary rules.

SUMMARY: The Bureau of Land Management (BLM) is publishing proposed supplementary rules that implement vehicular closure and restrictions to protect the values of the Snake River area and the Sheep Mountain Wilderness Study Area (WSA)/Area of Critical Environmental Concern (ACEC) on public lands along the West side of the Snake River between Oxbow and Brownlee Dam in Baker County, Oregon. The purpose of the closure and restrictions are to allow for the rehabilitation of newly constructed roads, trails, and ways, created or opened during the Idaho Power 230/69 KV powerline construction project, and to protect wildlife habitat, native vegetation, fragile soils, and scenic, cultural, and natural values on public land in this part of the Snake River and Sheep Mountain WSA/ACEC. These closure and restriction orders will be in effect on 9,241 acres of public land, and do not affect, limit or close any previously existing public access.

DATES: You must submit your comments for these proposed supplementary rules to BLM at the appropriate address below on or before August 13, 2004. BLM may not consider any comments received after the above date in making its decisions on the final rule.

ADDRESSES: Mail or personal delivery: Field Manager, Bureau of Land Management, Baker Resource Area, 3165 10th Street, Baker City, Oregon 97814.

FOR FURTHER INFORMATION CONTACT: Baker Field Manager Penelope Dunn Woods, at (541) 523-1256. Persons who use a telecommunications device for the deaf (TDD) may contact this individual by calling the Federal Information Relay Service (FIRS) at (800) 877-8339, 24 hours a day, 7 days a week.

I. Public Comment Procedures
II. Discussion of the Supplementary Rules
III. Procedural Matters

I. Public Comment Procedures

Electronic Access and Filing Address

You may view an electronic version of this proposed rule at BLM's Internet home page: http://www.or.blm.gov/Vale. Click on the link labeled “NEPA/PLANNING”.

Written Comments

Written comments on the proposed rule should be specific, confined to issues pertinent to the proposed rule, and should explain the reason for any recommended change. Where possible, comments should reference the specific section or paragraph of the proposal which the commenter is addressing. BLM may not consider or include in the Administrative Record for the final rule comments which BLM receives after the close of the comment period (see DATES) or comments delivered to an address other than those listed above (see ADRESSES).

Comments, including names, street addresses, and other contact information of respondents, will be available for public review at the Baker Field Office, 3165 10th Street, Baker City, OR 97814 during regular business hours (7:45 a.m. to 4:30 p.m.), Monday through Friday, except Federal holidays. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Discussion of the Supplementary Rules

These supplementary rules will apply to the public lands within the Baker Resource Area of the Vale District. BLM has determined these rules necessary to protect the area's natural resources, to provide for safe public recreation and public health, and to reduce the potential for damage to the environment.

The public lands in Baker County, Oregon affected by this order include all BLM-managed public lands located within the identified sections, and all other BLM lands located between these sections and the Idaho Power Oxbow-Brownlee Road along the Oxbow Reservoir:

Willamette Meridian, Oregon

T. 7S., R. 47E.,

Section 25, SE½SE¼;

Sections 36, all except for NW¼NW¼.

T. 7S., R. 48E.,

Section 17, E½SE¼;

Section 19, SE¼SE¼;

Section 20, E½NE¼, SW¼NE¼, E½SW¼, SW¼SW¼, SW¼;

Section 30, E½NE¼, SW¼NE¼, E½SW¼, SW¼SW¼, SE¼;

T. 8S., R. 47E.,

Sec. 1, lots 1 thru 4, inclusive, 7 thru 10, inclusive, 15, 16;

Sec. 2, lot 1;

Sec. 12, lots 1, 2, 7 thru 10, inclusive, 15, 16;

Sec. 13, all lands east of BLM road #7644;

Sec. 24, all lands east of BLM road #7644;

Sec. 25, all except those lands west of BLM road #7644.

This closure and use restriction order is the minimum required to mitigate the impacts of unregulated off-highway vehicle use on newly disturbed soil, roads, trails, and ways; to protect wildlife habitat, cultural resources, scenic values, native vegetation and fragile soils in the area; and to respond to concerns of public health and safety, wildfire, weed control and resource degradation. Actions to implement the closure and restrictions will be undertaken.

Private Lands: This order is in no way intended to affect the legal rights, or existing rights-of-way, of adjacent private land owners, or their interests within private lands within the closure area. Further, this order does not infer any BLM jurisdiction over private lands located within the closure area.

Copies of the closure and restriction order and maps showing the location of the closed lands and roads are available from the Baker Field Office, 3165 10th Street, Baker City, OR 97814.

III. Procedural Matters

Executive Order 12630, Governmental Actions and Interference With Constitutionally Protected Property Rights (Takings)

The proposed rule does not represent a government action capable of interfering with constitutionally protected property right as it only applies to lands managed by the BLM. Therefore, the Department of the Interior has determined that the rule would not cause a taking of private property or require further discussion of takings implications under this Executive Order.

Executive Order 13132, Federalism (Replaces Executive Orders 12612 and 13083)

The proposed rule will not have a substantial direct effect on the States, on the relationship between the national government and the States, or on the distribution of power and responsibilities among the various levels of government. Therefore, in accordance with Executive Order 13132, BLM has determined that this proposed rule does not have sufficient federalism implications to warrant preparation of a federalism assessment.

Executive Order 12988, Civil Justice Reform

Under Executive Order 12988, the Office of the Solicitor has determined that this proposed rule would not unduly burden the judicial system and that it meets the requirements of sections 3(a) and 3(b)(2) of the Order.

Executive Order 13175, Consultation and Coordination With Indian Tribal Governments (Replaces Executive Order 13084)

In accordance with Executive Order 13175, we have found that this proposed rule does not include policies that have tribal implications. The rule expressly does not apply to Indian lands (see section 3601.12). The regulations do not bar Indians or tribes from buying mineral materials from public lands, although the abundance of these materials on Indian lands has made such purchases unnecessary. We do not know of any instances of tribal use of mineral materials from public lands.

National Environmental Policy Act

In compliance with the National Environmental Policy Act, construction of the powerline, and the associated construction and rehabilitation of roads and trails, were analyzed in the Brownlee-Oxbox #2 Transmission Line Project Environmental Analysis. A Finding of No Significant Impact (FONSI) was issued on July 7, 2003. The Environmental Analysis states that the access roads that were to be built would be rehabilitated and would not be open to motorized public access. These supplementary rules serve as additional public notification that the powerline access roads will be closed to public vehicular use and provides BLM Law Enforcement Officers with the ability to enforce this closure. A copy of the Environmental Analysis and FONSI are available for review at the Baker Field Office (see ADDRESSES).

Paperwork Reduction Act

These supplementary rules do not contain information collection requirements that the Office of Management and Budget must approve under the Paperwork Reduction Act of 1995, 44 U.S.C. 3501 et seq.

Author

The principal author of these supplementary rules is Kevin McCoy, Outdoor Recreation Planner, Baker Field Office, 3165 10th Street, Baker City, OR, 97814.

Supplementary Rules for Public Lands, Oregon and Washington

Under the authority for supplemental rules found under 43 CFR 8365.1-6 and 43 U.S.C. 315a, the BLM will enforce the following rules on public lands within the affected area of the Snake River area and the Sheep Mountain WSA/ACEC at the locations identified in this order. You must follow these rules:

1. You must not operate any motorized vehicle within the affected Snake River area and Sheep Mountain WSA/ACEC areas, except on the existing improved Idaho Power Oxbow-Brownlee road on BLM public land. The Idaho Power Oxbow-Brownlee road is located on the west bank of the Snake River, from the Oxbow Dam upstream to the Brownlee Dam:

2. You must not land any motorized aircraft without authorization.

3. You must not park vehicles on public lands, except within established turnout areas no more than 100 feet from the west edge of the Idaho Power Oxbow-Brownlee road.

Exemptions: Personnel that are exempt from the area closures and restrictions include any Federal, State, local officer, or employee in the scope of their duties; members of any organized rescue or fire-fighting force in the performance of an official duty, or any person authorized or permitted in writing by the Bureau of Land Management; any person or corporation holding a valid right-of-way or easement.

Penalties: On public lands, under section 303(a) of the Federal Land Policy and Management Act of 1976 (43 U.S.C. 1733(a)) and 43 CFR 8360.0-7, any person who violates any of these supplementary rules may be tried before a United States Magistrate and fined no more than $1,000 or imprisoned for no more than 12 months, or both. Such violations may also be subject to the enhanced fines provided for by 18 U.S.C. 3571. On public lands in grazing districts (section 3) and grazing leased lands (section 15), under section 303(a) of the Federal Land Policy and Management Act of 1976, 43 U.S.C. 1733(a) and 43 U.S.C. 315(a) any person who violates any of these supplementary rules on public lands within the boundaries established in the rules may be tried before a United States Magistrate and fined no more than $500. Such violations may also be subject to the enhanced fines provided for by 18 U.S.C. 3571.

Elaine M. Brong,
State Director, Oregon State Office, Bureau of Land Management.

[FR Doc. 04-15891 Filed 7-13-04; 8:45 am]

BILLING CODE 4310-33-P